INTERNATIONAL TRADE COMMISSION

[USITC SE-12-008]

Government In the Sunshine Act Meeting Notice

AGENCY HOLDING THE MEETING: United States International Trade Commission.

TIME AND DATE: March 21, 2012 at 11 a.m.

PLACE: Room 101, 500 E Street SW., Washington, DC 20436, Telephone: (202) 205-2000.

STATUS: Open to the public.

MATTERS TO BE CONSIDERED: 1. Agendas for future meetings: none

2. Minutes

3. Ratification List

4. Vote in Inv. Nos. 731-TA-313, 314, 317, and 379 (Third Review) (Brass Sheet and Strip from France, Germany, Italy, and Japan). The Commission is currently scheduled to transmit its determinations and Commissioners' opinions to the Secretary of Commerce on or before April 13, 2012.

5. Outstanding action jackets: none

In accordance with Commission policy, subject matter listed above, not disposed of at the scheduled meeting, may be carried over to the agenda of the following meeting.

By order of the Commission.
Issued: March 14, 2012.
James R. Holbein,
Secretary to the Commission.

[FR Doc. 2012-6810 Filed 3-16-12; 4:15 pm]

BILLING CODE 7020-02-P